DEPARTMENT OF HEALTH AND HUMAN SERVICES

National Institutes of Health

National Institute on Aging; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute on Aging Special Emphasis Panel, Mid Career Investigator Award in Patient-Oriented Research.

Date: April 26, 2000.

Time: 10 a.m. to 1 p.m.

Agenda: To review and evaluate grant applications.

Place: 7201 Wisconsin Avenue, Gateway Building, Rm 2C212, Bethesda, MD 20892 (Telephone Conference Call).

Contact Person: Ramesh Vemuri, Office of Scientific Review, National Institute on Aging, Bethesda Gateway Building, Suite 2C212, Bethesda, MD 20892, 301-496-9666.

This notice is being published less than 15 days prior to the meeting due to the timing limitations imposed by the review and funding cycle.

Name of Committee: National Institute on Aging Special Emphasis Panel.

Date: April 25, 2000.

Time: 10:15 a.m. to 11:15 a.m.

Agenda: To review and evaluate grant applications.

Place: 7201 Wisconsin Avenue, Gateway Building, Rm 2C212, Bethesda, MD 20892 (Telephone Conference Call).

Contact Person: Jeffrey M. Chernak, Bethesda Gateway Building, 7201 Wisconsin Avenue, Rm 2C212, Bethesda, MD 20892, 301-496-9666.

Name of Committee: National Institute on Aging Special Emphasis Panel.

Date: April 26, 2000.

Time: 10 a.m. to 1 p.m.

Agenda: To review and evaluate grant applications.

Place: 7201 Wisconsin Avenue, Gateway Building, Rm 2C212, Bethesda, MD 20892 (Telephone Conference Call).

Contact Person: Mary Nekola, Chief, Office of Scientific Review, National Institute on Aging, Bethesda Gateway Building, Suite 2C212, Bethesda, MD 20892, 301-496-9666.

(Catalogue of Federal Domestic Assistance Program Nos. 93.866, Aging Research, National Institutes of Health, HHS)
Dated: April 12, 2000.
LaVerne Y. Stringfield,
Director, Office of Federal Advisory Committee Policy.

[FR Doc. 00-9718 Filed 4-18-00; 8:45 am]

BILLING CODE 4140-01-M